FEDERAL EMERGENCY MANAGEMENT AGENCY

44 CFR Part 64

[Docket No. FEMA-7750]

List of Communities Eligible for the Sale of Flood Insurance

AGENCY: Federal Emergency Management Agency (FEMA).

ACTION: Final rule.

SUMMARY: This rule identifies communities participating in the National Flood Insurance Program (NFIP). These communities have applied to the program and have agreed to enact certain floodplain management measures. The communities' participation in the program authorizes the sale of flood insurance to owners of property located in the communities listed.

EFFECTIVE DATES: The dates listed in the third column of the table.

ADDRESSES: Flood insurance policies for property located in the communities listed can be obtained from any licensed property insurance agent or broker serving the eligible community, or from the NFIP at: Post Office Box 6464, Rockville, MD 20849, (800) 638-6620.

FOR FURTHER INFORMATION CONTACT: Donna M. Dannels, Division Director, Policy and Assessment Division, Mitigation Directorate, 500 C Street SW., room 411, Washington, DC 20472, (202) 646-3098.

SUPPLEMENTARY INFORMATION: The NFIP enables property owners to purchase flood insurance which is generally not otherwise available. In return, communities agree to adopt and administer local floodplain management measures aimed at protecting lives and new construction from future flooding. Since the communities on the attached list have recently entered the NFIP, subsidized flood insurance is now available for property in the community.

In addition, the Associate Director of the Federal Emergency Management Agency has identified the special flood hazard areas in some of these communities by publishing a Flood Hazard Boundary Map (FHBM) or Flood Insurance Rate Map (FIRM). The date of the flood map, if one has been published, is indicated in the fourth column of the table. In the communities listed where a flood map has been published, Section 102 of the Flood Disaster Protection Act of 1973, as amended, 42 U.S.C. 4012(a), requires the purchase of flood insurance as a condition of Federal or federally related financial assistance for acquisition or construction of buildings in the special flood hazard areas shown on the map.

The Associate Director finds that the delayed effective dates would be contrary to the public interest. The Associate Director also finds that notice and public procedure under 5 U.S.C. 553(b) are impracticable and unnecessary.

National Environmental Policy Act

This rule is categorically excluded from the requirements of 44 CFR Part 10, Environmental Considerations. No environmental impact assessment has been prepared.

Regulatory Flexibility Act

The Associate Director certifies that this rule will not have a significant economic impact on a substantial number of small entities in accordance with the Regulatory Flexibility Act, 5 U.S.C. 601 et seq., because the rule creates no additional burden, but lists those communities eligible for the sale of flood insurance.

Regulatory Classification

This final rule is not a significant regulatory action under the criteria of section 3(f) of Executive Order 12866 of September 30, 1993, Regulatory Planning and Review, 58 FR 51735.

Paperwork Reduction Act

This rule does not involve any collection of information for purposes of the Paperwork Reduction Act, 44 U.S.C. 3501 et seq.

Executive Order 12612, Federalism

This rule involves no policies that have federalism implications under Executive Order 12612, Federalism, October 26, 1987, 3 CFR, 1987 Comp., p. 252.

Executive Order 12778, Civil Justice Reform

This rule meets the applicable standards of section 2(b)(2) of Executive Order 12778, October 25, 1991, 56 FR 55195, 3 CFR, 1991 Comp., p. 309.

List of Subjects in 44 CFR Part 64

Flood insurance, Floodplains.

Accordingly, 44 CFR part 64 is amended as follows:

PART 64—[AMENDED]

1. The authority citation for Part 64 continues to read as follows:

Authority: 42 U.S.C. 4001 et seq., Reorganization Plan No. 3 of 1978, 3 CFR, 1978 Comp., p. 329; E.O. 12127, 44 FR 19367, 3 CFR, 1979 Comp., p. 376.

§ 64.6 [Amended]

2. The tables published under the authority of § 64.6 are amended as follows:

State/location | Community No. | Effective date of eligibility | Current effective map date
New Eligibles—Emergency Program
Georgia:
Homer, town of, Banks County | 130271 | January 3, 2001 | April 18, 1975.
Jenkinsburg, town of, Butts County | 130525 | ......do.
Tennessee: Oakland, town of, Fayette County | 470418 | ......do.
Texas:
Dickens County, unincorporated areas | 480198 | January 4, 2001.
Floyd County, unincorporated areas | 480817 | ......do | July 17, 1977 FHBM.
Kent County, unincorporated areas | 481231 | ......do.
Kimble County, unincorporated areas | 481232 | ......do. | Jan. 15, 1982 FHBM.
Rule, town of, Haskell County | 480854 | ......do.
Schleicher County, unincorporated areas | 480999 | ......do.
Wyoming: Kirby, town of, Hot Springs County | 560102 | Jan. 10, 2001.
Georgia: Lenox, town of, Cook County | 130569 | Jan. 12, 2001.
Michigan: Girard, township of, Branch County | 261044 | Jan. 16, 2001.
Ohio: Mount Orab, village of, Brown County | 390621 | ......do.
Texas:
Crane County, unincorporated areas | 481211 | ......do.
Happy, city of, Swisher County | 481011 | ......do.
Jayton, city of, Kent County | 481690 | ......do.
Parmer County, unincorporated areas | 480970 | ......do.
Spur, city of, Dickens County | 480788 | ......do | Nov. 12, 1976.
Texline, town of, Dallam County | 481129 | ......do.
Washington County, unincorporated areas | 481188 | ......do | May 24, 1977.
New Eligibles—Regular Program
Florida: Wellington, village of, Palm Beach County ¹ | 125157 | Jan. 3, 2001.
North Dakota: Tuttle, city of, Kidder County | 380041 | ......do | NSFHA.
Texas:
Hill Country Village, town of, Bexar County | 481106 | Jan. 4, 2001 | Aug. 23, 1977.
Tioga, town of, Grayson County | 481624 | Jan. 16, 2001 | July 17, 1995.
Missouri: Augusta, village of, St. Charles County | 290461 | Jan. 31, 2001 | Dec. 6, 1999.
Reinstatements
Pennsylvania: New Kensington, city of, Westmoreland County | 420891 | June 14, 1973, Emer Sept. 29, 1978, Reg. Dec. 14, 2000, Susp. Jan. 2, 2001, Rein. | Nov. 20, 2000.
Ohio: Creston, village of, Wayne County | 390575 | Oct. 17, 1994, Reg Jan. 16, 1998, With. Jan. 16, 2001, Rein. | May 3, 1993.
Illinois: Palos Heights, city of, Cook County | 170142 | July 16, 1980, Reg Jan. 12, 2001, With. Jan. 23, 2001, Rein. | Nov. 6, 2000.
Orland Park, village of, Cook County | 170140 | Feb. 4, 1981, Reg. Jan. 12, 2001, With. Jan. 29, 2001, Rein. | Do.
Suspensions
Illinois:
La Grange, village of, Cook County | 170114 | Jan. 12, 2001 | Nov. 6, 2000.
Lincolnwood, village of, Cook County | 171001 | ......do | Do.
North Riverside, village of, Cook County | 170135 | ......do | Do.
Pennsylvania: Gilpin, township of, Armstrong County | 421306 | ......do | August 23, 2000.
Virginia: Monterey, town of, Highland County | 510379 | ......do | Dec. 20, 2000.
Pennsylvania:
Delaware, township of, Pike County | 421963 | Jan. 19, 2001 | Oct. 6, 2000.
Milford, township of, Pike County | 422642 | ......do | Do.
Regular Program Conversions
Region V
Illinois:
Bedford Park, village of, Cook County | 171007 | Jan. 5, 2001, Suspension Withdrawn | Jan. 5, 2001.
Des Plaines, city of, Cook County | 170081 | ......do | Do.
East Hazel Crest, village of, Cook County | 170085 | ......do | Do.
Evanston, city of, Cook County | 170090 | ......do | Do.
Ford Heights, village of, Cook County | 170084 | ......do | Do.
Golf, village of, Cook County | 170098 | ......do | Do.
Hanover Park, village of, Cook County | 170099 | ......do | Do.
Hillside, village of, Cook County | 170104 | ......do | Do.
Hoffman Estates, village of, Cook County | 170107 | ......do | Do.
La Grange, village of, Cook County | 170114 | ......do | Do.
Lincolnwood, village of, Cook County | 171001 | ......do | Do.
North Riverside, village of, Cook County | 170135 | ......do | Do.
Oak Forest, city of, Cook County | 170136 | ......do | Do.
Palos Hills, city of, Cook County | 170143 | ......do | Do.
Schiller Park, village of, Cook County | 170159 | ......do | Do.
Indiana: Indianapolis, city of, Marion County. | 180159 | ......do | Jan. 5, 2001.
Region III
Pennsylvania:
Blooming Grove, township of, Pike County | 421962 | Jan. 19, 2001, Suspension Withdrawn | Oct. 6, 2000.
Delaware, township of, Pike County | 421963 | ......do | Do.
Dingman, township of, Pike County | 421964 | ......do | Do.
Greene, township of, Pike County | 421965 | ......do | Do.
Lackawaxen, township of, Pike County | 421966 | ......do | Do.
Lehman, township of, Pike County | 421967 | ......do | Do.
Matamoras, borough of, Pike County | 420758 | ......do | Do.
Milford, borough of, Pike County | 420759 | ......do | Do.
Milford, township of, Pike County | 422642 | ......do | Do.
Palmyra, township of, Pike County | 421968 | ......do | Do.
Porter, township of, Pike County | 422500 | ......do | Do.
Shohola, township of, Pike County | 421969 | ......do | Do.
Westfall, township of, Pike County | 421970 | ......do | Do.
Virginia: Hardy County, unincorporated areas | 540051 | ......do | Jan. 19, 2001.
West Virginia: Moorefield, town of, Hardy County | 540052 | ......do | Do.
¹ The Village of Wellington adopted the Palm Beach County Flood Insurance Rate Map (FIRM), dated June 2, 1992, panel 0100B.
Code for reading third column: Emerg.—Emergency; Reg.—Regular; Rein.—Reinstatement; Susp.—Suspension; With.—Withdrawn; NSFHA.—Non Special Flood Hazard Area.

(Catalog of Federal Domestic Assistance No. 83.100, “Flood Insurance”)

Margaret E. Lawless,
Acting Executive Associate Director for Mitigation.

[FR Doc. 01-6766 Filed 3-19-01; 8:45 am]

BILLING CODE 6718-05-P